DEPARTMENT OF HOMELAND SECURITY

Federal Emergency Management Agency

[Docket ID FEMA-2016-0002; Internal Agency Docket No. FEMA-B-1626]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Date: May 19, 2016.
Roy E. Wright,
Deputy Associate Administrator for Insurance and Mitigation, Department of Homeland Security, Federal Emergency Management Agency.

State and county | Location and case No. | Chief executive officer of community | Community map repository | Online location of letter of map revision | Effective date of modification | Community No.
Idaho: Ada | Unincorporated areas of Ada County (16-10-0446P) | Mr. Jim Tibbs, Chairman, Board of County Commissioners, 200 West Front Street, 3rd Floor, Boise, ID 83702 | Ada County Courthouse, 200 West Front Street, Boise, ID 83702 | http://www.msc.fema.gov/lomc | August 9, 2016 | 160001
Indiana: Hendricks | Unincorporated areas of Hendricks County (16-05-2570P) | Mr. Michael E. Graham, Administrator to the County Commissioner, Hendricks County Government Center, 355 South Washington Street, Danville, IN 46122 | Hendricks County Government Center, 355 South Washington Street, Danville, IN 46122 | http://www.msc.fema.gov/lomc | July 7, 2016 | 180415
New Jersey:
Burlington | Township of Medford (16-02-0032P) | The Honorable Jeffrey Beenstock, Mayor, Township of Medford, 17 North Main Street, Medford, NJ 08055 | Municipal Center, 17 North Main Street, Medford, NJ 08055 | http://www.msc.fema.gov/lomc | August 5, 2016 | 340104
Middlesex | Borough of Middlesex (16-02-0324P) | The Honorable Ronald J. DiMura, Mayor, Borough of Middlesex, 1200 Mountain Avenue, Middlesex, NJ 08846 | Municipal Court, 1200 Mountain Avenue, Middlesex, NJ 08846 | http://www.msc.fema.gov/lomc | July 18, 2016 | 345305
Somerset | Borough of Bound Brook (16-02-0324P) | The Honorable Robert Fazen, Mayor, Borough of Bound Brook, 230 Hamilton Street, Bound Brook, NJ 08805 | Municipal Building, 230 Hamilton Street, Bound Brook, NJ 08805 | http://www.msc.fema.gov/lomc | July 18, 2016 | 340430
Somerset | Borough of South Bound Brook (16-02-0324P) | The Honorable Caryl Shoffner, Mayor, Borough of South Bound Brook, 12 Main Street, South Bound Brook, NJ 08880 | Municipal Building, 12 Main Street, South Bound Brook, NJ 08880 | http://www.msc.fema.gov/lomc | July 18, 2016 | 340445
Somerset | Township of Bridgewater (16-02-0324P) | The Honorable Daniel J. Hayes, Jr., Mayor, Township of Bridgewater, 100 Commons Way, Bridgewater, NJ 08807 | Department of Code Enforcement, 700 Garretson Road, Bridgewater, NJ 08807 | http://www.msc.fema.gov/lomc | July 18, 2016 | 340432
Somerset | Township of Bridgewater (16-02-0607P) | The Honorable Daniel J. Hayes, Jr., Mayor, Township of Bridgewater, 100 Commons Way, Bridgewater, NJ 08807 | Township of Bridgewater, Department of Code Enforcement, 700 Garretson Road, Bridgewater, NJ 08807 | http://www.msc.fema.gov/lomc | August 4, 2016 | 340432
New York: Cortland | Town of Scott (16-02-0318P) | Mr. Kevin Fitch, Town Supervisor, Town of Scott, Town Hall, 6689 NYS Route 41, Homer, NY 13077 | Town Hall, 6689 NYS Route 41, Homer, NY 13077 | http://www.msc.fema.gov/lomc | August 12, 2016 | 361328
Ohio: Licking | Village of Granville (16-05-1572P) | The Honorable Melissa Hartfield, Mayor, Village of Granville, City Hall, 141 East Broadway Street, Granville, OH 43023 | Village Offices, 141 East Broadway Street, Granville, OH 43023 | http://www.msc.fema.gov/lomc | August 4, 2016 | 390330
Oregon:
Multnomah | City of Portland (16-10-0674P) | The Honorable Charlie Hales, Mayor, City of Portland, 1221 Southwest 4th Avenue, Room 340, Portland, OR 97204 | Bureau of Environmental Services, 1221 Southwest 4th Avenue, Room 230, Portland, OR 97204 | http://www.msc.fema.gov/lomc | August 12, 2016 | 410183
Washington | City of Beaverton (15-10-1269P) | The Honorable Denny Doyle, Mayor, City of Beaverton, The Beaverton Building, 12725 Southwest Millikan Way, Beaverton, OR 97005 | City Hall, Planning & Engineering Department, 12725 Southwest Millikan Way, Beaverton, OR 97005 | http://www.msc.fema.gov/lomc | August 19, 2016 | 410240
Wisconsin: Waukesha | City of Brookfield (16-05-2092P) | The Honorable Steven V. Ponto, Mayor, City of Brookfield, 2000 North Calhoun Road, Brookfield, WI 53005 | City Hall, 2000 North Calhoun Road, Brookfield, WI 53005 | http://www.msc.fema.gov/lomc | August 12, 2016 | 550478

[FR Doc. 2016-15751 Filed 7-1-16; 8:45 am]

BILLING CODE 9110-12-P